DEPARTMENT OF ENERGY

Federal Energy Regulatory Commission

[Docket No. EL10-57-000]

Notice of Complaint Filing

April 5, 2010.

PSEG Energy Resources & Trade, LLC, PSEG Power Connecticut LLC, NRG Power marketing LLC, Connecticut Jet Power LLC, Devon Power LLC, Middletown Power LLC, Montville Power LLC, Norwalk Power LLC, Somerset Power LLC, Joint Complainants v. ISO New England Inc., New England Power Pool, Respondents.

Take notice that on April 2, 2010, pursuant section 206 of the Federal Power Act and Rule 206 of the Federal Energy Regulatory Commission's (Commission) Rules of Practice and Procedure, PSEG Energy Resources & Trade, LLC, PSEG Power Connecticut LLC, NRG Power marketing LLC, Connecticut Jet Power LLC, Devon Power LLC, Middletown Power LLC, Montville Power LLC, Norwalk Power LLC, and Somerset Power LLC (Joint Complainants) filed a formal complaint against ISO New England Inc. (ISO-NE) and New England Power Pool, alleging that the current and proposed tariffs governing the Forward Capacity Market (FCM) of ISO-NE are ineffective at preventing artificial price distortions due to, inter alia, the lack of proper zonal formation and that, as a consequence, the capacity prices arising out of these rules are not just and reasonable. In order to alleviate this problem, the FCM rules should be amended to more fully allow for zonal formation.

The Complainant states that a copy of the complaint has been served on the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 22, 2010.

Kimberly D. Bose,
Secretary.

[FR Doc. 2010-8212 Filed 4-9-10; 8:45 am]

BILLING CODE 6717-01-P